SECURITIES AND EXCHANGE COMMISSION

17 CFR Parts 228, 229, 232, 240, 249 and 270

[Release Nos. 33-8496A, 34-50453A, 35-27894A, 39-2428A, IC-26622A; File Number S7-35-04]

RIN 3235-AJ32

XBRL Voluntary Financial Reporting Program on the Edgar System

AGENCY: Securities and Exchange Commission.

ACTION: Correction to proposed rule.

SUMMARY: This document contains a correction to the proposed rule, which was published Friday, October 1, 2004 (69 FR 59093). The “39” release number should read 39-2428.

Dated: October 20, 2004.
Jill M. Peterson,
Assistant Secretary.

[FR Doc. 04-23898 Filed 10-25-04; 8:45 am]

BILLING CODE 8010-01-P